DEPARTMENT OF ENERGY

Federal Energy Regulatory Commission

[Project No. 14691-001]

Lock +TM Hydro Friends Fund XXIX; Notice of Surrender of Preliminary Permit

Take notice that Lock +™ Hydro Friends Fund XXIX, permittee for the proposed Columbia Lock and Dam Hydroelectric Project, has requested that its preliminary permit be terminated. The permit was issued on May 17, 2016, and would have expired on April 30, 2019.¹ The project would have been located on the Ouachita River in Caldwell County, Louisiana.

¹ 154 FERC ¶ 62,094 (2016).

The preliminary permit for Project No. 14691 will remain in effect until the close of business, March 8, 2018. If the Commission is closed on this day, then the permit remains in effect until the close of business on the next day in which the Commission is open.² New applications for this site may not be submitted until after the permit surrender is effective.

² 18 CFR 385.2007(a)(2) (2017).

Dated: February 6, 2018.
Kimberly D. Bose,
Secretary.

[FR Doc. 2018-02788 Filed 2-9-18; 8:45 am]

BILLING CODE 6717-01-P